DEPARTMENT OF JUSTICE

Parole Commission

Meetings; Sunshine Act; Public Announcement Pursuant to the Government in the Sunshine Act (Pub. L. 94-409) [5 U.S.C. Section 552b]

AGENCY HOLDING MEETING: Department of Justice, United States Parole Commission.

DATE AND TIME: 11:30 a.m., Thursday, February 10, 2011.

PLACE: U.S. Parole Commission, 5550 Friendship Boulevard, 4th Floor, Chevy Chase, Maryland 20815.

STATUS: Closed.

MATTERS CONSIDERED: The following matter will be considered during the closed meeting:

Consideration of four original jurisdiction cases pursuant to 28 CFR 2.27 and one original jurisdiction case pursuant to 28 CFR 2.17.

AGENCY CONTACT: Patricia W. Moore, Staff Assistant to the Chairman, United States Parole Commission, (301) 492-5933.

Dated: February 1, 2011.
Rockne Chickinell,
General Counsel, U.S. Parole Commission.

[FR Doc. 2011-2671 Filed 2-7-11; 8:45 am]

BILLING CODE 4410-31-M